DEPARTMENT OF ENERGY

Federal Energy Regulatory Commission

[Project No. 15345-000]

Nightfall Renewables Inc.; Notice of Preliminary Permit Application Accepted for Filing and Soliciting Comments, Motions To Intervene, and Competing Applications

On February 26, 2024, Nightfall Renewables Inc., filed an application for a preliminary permit, pursuant to section 4(f) of the Federal Power Act (FPA), proposing to study the feasibility of the Maxwell Pumped Storage Project to be located in Kern County, California near Rosamond, California. The proposed 3,600-megawatt closed-loop project would occupy federal land managed by the Bureau of Land Management. The sole purpose of a preliminary permit is to grant the permit holder priority to file a license application during the permit term. A preliminary permit does not authorize the permit holder to perform any land-disturbing activities or otherwise enter upon lands or waters owned by others without the owners' express permission.

The proposed project would consist of: (1) four new roller-compacted concrete or rockfill dams upper dams and reservoirs, and 36 lower reservoirs, excavated from rock consisting of 16 “rooms”, each 50 feet wide, 70 feet high, and 200 feet-long; (2) four 3,000-feet-long/deep, 24-foot-diameter concrete lined, vertical headrace shafts; (3) nine 20-foot-wide, 20-foot-high headrace tunnels averaging 5,150 feet long; (4) thirty six 12-foot-diameter, 160-foot-long steel penstock pipes at the powerhouse turbine level; (5) twelve 300-foot-long, 100-foot-wide, 230-foot-high powerhouses excavated from rock approximately 5,000 feet below surface; (6) a transformer room 36 feet wide, 25 feet high, and 190 feet long located approximately 260 feet above each powerhouse; (7) thirty six sets of 18-foot-wide, 16-foot-high, 435-foot-long unlined turbine tailraces; foot-wide, 16-foot-high, 410-foot-long on average unlined pump intake tailraces; and 12-foot-diameter, 200-foot-long steel pipe pump discharge tailraces; (8) two access ramps and 35 access tunnels, all approximately 18 feet wide and 16 feet high, totaling approximately 105,000 feet in length; (9) an approximately 5,560-foot-long, 1,780-foot-wide, 160-acre rock pad; (10) a new 9.5-mile-long, 8-inch-diameter pipe connecting the project to an existing untreated water pipe; and (11) two new 500-foot-long, 100-foot-wide pre-fabricated steel buildings.

Upper reservoir dam 1 would be approximately 1,740 feet long and 40 feet wide at the crest, creating upper reservoir 1, with a surface area of approximately 29.1 acres, a storage capacity of approximately 2,420 acre-feet, and a surface elevation of 5,120 feet above mean sea level (msl). Upper reservoir dam 2 would be approximately 1,300 feet long and 40 feet wide at the crest, creating upper reservoir 2, with a surface area of approximately 27.1 acres, a storage capacity of approximately 2,760 acre-feet, and a surface elevation of 4,920 feet msl. Upper reservoir dam 3 will be approximately 1,280 feet long and 60 feet wide at the crest, creating upper reservoir 3, with a surface area of approximately 26.6 acres, a storage capacity of approximately 2,435 acre-feet, and a surface elevation of 4,880 feet msl. Upper reservoir dam 4 will be approximately 1,120 feet long and 60 feet wide at the crest, creating upper reservoir 4, with a surface area of approximately 24.3 acres, a storage capacity of approximately 2,385 acre-feet, and a surface elevation of 4,720 feet MSL.

A new substation (Maxwell Substation) would be constructed, bifurcating two existing Southern California Edison (SCE) 500-kilovolt (kV) single-circuit transmission lines. A second transmission line would be constructed from the Maxwell Substation to the SCE Whirlwind Substation. A new 3.5-mile-long 500-kV double-circuit transmission line would be constructed from the Maxwell Substation to connect to the powerhouses. A sub-surface line would connect to the underground powerhouse transformers. The estimated annual energy production of the proposed project would be approximately 14,000,000 megawatt-hours.

Applicant Contacts: Mr. Benjamin Wayne Mossman, Chief Executive Director, Nightfall Renewable Resources 30001 Lava Ridge Court, Suite 120, Roseville, CA 95661; email: bmossman@nightfallrenewables.com; phone (530) 557-9524.

FERC Contact: Benjamin Mann; email; benjamin.mann@ferc.gov; phone (202) 502-8127.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters without prior registration using the eComment system at https://ferconline.ferc.gov/QuickComment.aspx. For assistance, please get in touch with FERC Online Support at FERCOnlineSupport@ferc.gov, (866) 208-3676 (toll-free), or (202) 502-8659 (TTY). Instead of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15345-000.

More information about this project, including a copy of the application, can be viewed or printed on the “eLibrary” link of the Commission's website at https://elibrary.ferc.gov/eLibrary/search. Enter the docket number (P-15345) in the docket number field to access the document. For assistance, do not hesitate to get in touch with FERC Online Support.

Dated: June 11, 2024.
Debbie-Anne A. Reese,
Acting Secretary.

[FR Doc. 2024-13285 Filed 6-14-24; 8:45 am]

BILLING CODE 6717-01-P